DEPARTMENT OF COMMERCE

National Oceanic and Atmospheric Administration

Proposed Information Collection; Comment Request; Survey To Collect Economic Data From Recreational Anglers Along the Atlantic Coast

AGENCY: National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before September 18, 2018.

ADDRESSES: Direct all written comments to Jennifer Jessup, Departmental Paperwork Clearance Officer, Department of Commerce, Room 6616, 14th and Constitution Avenue NW, Washington, DC 20230 (or via the internet at pracomments@doc.gov).

FOR FURTHER INFORMATION CONTACT: Requests for additional information or copies of the information collection instrument and instructions should be directed to Sabrina Lovell, Economist, Office of Science and Technology, NMFS, 1315 East-West Hwy., Silver Spring, MD 20910. Tel: (301) 427-8153 or sabrina.lovell@noaa.gov.

SUPPLEMENTARY INFORMATION:

I. Abstract

This request is for a new information collection.

The objective of the survey will be to understand how anglers respond to changes in management options and fishing regulations (e.g., bag limits, size limits, dates of open seasons, etc.) along the Atlantic Coast. We are conducting this survey to improve our ability to understand and predict how changes in management options and regulations may change the number of trips anglers take for highly sought after recreational fish species. This data will allow fisheries managers to conduct updated and improved analysis of the socio-economic effects to recreational anglers and to coastal communities of proposed changes in fishing regulations. The recreational fishing community and regional fisheries management councils have requested more species-specific socio-economic studies of recreational fishing that can be used in the analysis of fisheries policies. This survey will address that stated need for more species-specific studies. The population consists of those anglers who fish in saltwater along the Atlantic coast from Maine to Florida who possess a license to fish. A sample of anglers will be drawn from state fishing license frames. The survey will be conducted using both mail and email to contact anglers and invite them to take the survey online. Anglers not responding to the online survey may receive a paper survey in the mail.

II. Method of Collection

The survey will be conducted using two modes: Mail and internet.

III. Data

OMB Control Number: 0648-xxxx.

Form Number(s): None.

Type of Review: Regular (request for a new information collection).

Affected Public: Individuals or households.

Estimated Number of Respondents: 1,800.

Estimated Time per Response: 15 minutes.

Estimated Total Annual Burden Hours: 450 hours.

Estimated Total Annual Cost to Public: $0 in recordkeeping/reporting costs.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: July 16, 2018.
Sarah Brabson,
NOAA PRA Clearance Officer.

[FR Doc. 2018-15474 Filed 7-19-18; 8:45 am]

BILLING CODE 3510-22-P